DEPARTMENT OF JUSTICE

Office of Justice Programs

[OJP (OJP)-1320]

The Young Offender Initiative: Reentry Grant Program; Amendment

AGENCY: Office of Justice Programs, Justice.

ACTION: Amendment to Notice of Funding Availability.

SUMMARY: This document amends the deadline for applications to the Young Offender Initiative: Reentry Grant Program. The deadline for applications to be received by October 1, 2001, by 5:30 p.m. Eastern Standard Time, published in the Federal Register on Friday, June 1, 2001, (66 FR 29837) has been extended to Tuesday, October 9, 2001, 5:30 p.m. Eastern Standard Time.

DATES: Applications must be received by October 9, 2001, 5:30 p.m. Eastern Standard Time.

SUPPLEMENTARY INFORMATION: The Young Offender Initiative: Reentry Grant Program is authorized by P.L. 106-553, 114 Stat. 2762A-65. The program is designed to enhance community safety by successfully reintegrating young offenders into the community by helping them:

• Become productive, responsible, and law-abiding citizens;

• Obtain and retain long-term employment;

• Maintain a stable residence; and

• Successfully address their substance abuse issues and mental health needs.

Originally, applications for this program were due on October 1, 2001. The due date is being amended to October 9, 2001.

FOR FURTHER INFORMATION CONTACT: Dr. June Kress, the Corrections Program Office at 1-202-616-2915.

Mary Lou Leary,
Acting Assistant Attorney General, Office of Justice Programs.

[FR Doc. 01-24171 Filed 9-26-01; 8:45 am]

BILLING CODE 4410-18-P